ENVIRONMENTAL PROTECTION AGENCY

[FRL-9090-6]

Notice of Availability of “Application of Davis-Bacon Act Wage Requirements to Fiscal Year 2010 Clean Water State Revolving Fund and Drinking Water State Revolving Fund Assistance Agreements”

AGENCY: Environmental Protection Agency (EPA).

ACTION: Notice of availability of public document.

SUMMARY: The Assistant Administrator for the Office of Water, Environmental Protection Agency, has issued a memo to all EPA Regions giving direction as to the implementation of Davis-Bacon Act requirements included in the Fiscal Year 2010 Appropriations, Public Law 111-88, “Making appropriations for the Department of the Interior, environment, and related agencies for the fiscal year ending September 30, 2010, and for other purposes,” enacted on October 30, 2009.

DATES: Effective Date: November 30, 2009.

ADDRESSES: The subject memorandum may be viewed and downloaded from EPA's homepage, http://www.epa.gov/owm/cwfinance/cwsrf/law.htm or http://www.epa.gov/safewater/dwsrf/index.html.

FOR FURTHER INFORMATION CONTACT: Jordan Dorfman, Attorney-Advisor, Municipal Support Division, (202) 564-0614, or Philip Metzger, Attorney-Advisor, Drinking Water Protection Division, (202) 564-3776.

Dated: December 2, 2009.
Peter S. Silva,
Assistant Administrator, Office of Water.

[FR Doc. E9-29213 Filed 12-7-09; 8:45 am]

BILLING CODE 6560-50-P